DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 9, 2020.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on February 28, 2020.
Donald P. Burger,
Chief, General Approvals and Permits Branch.

Special Permits Data
Application No. | Applicant | Regulation(s) Affected | Nature of the Special Permits thereof
20901-N | Springfield Terminal Railway Co Inc | 174.14 | To authorize the storage of liquid petroleum gas (LPG) on storage tracks in serving yards close to major LPG distribution facilities. (mode 2)
21002-N | Calumet Branded Products, LLC | 173.150(b)(2) | To authorize the transportation in commerce of flammable liquids as limited quantities when the inner packaging capacity exceeds the HMR authorization. (mode 1)
21005-N | Federal Cartridge Company | 172.203(a), 173.56(h) | To authorize the transportation in commerce of “small arms” not conforming to the definition of cartridges, small arms as UN0014. (modes 1, 2, 3, 4, 5)
21006-N | Easymile Inc. | 172.101(j) | To authorize the transportation in commerce of lithium ion batteries exceeding 35 kg by cargo-only aircraft. (mode 4)
21007-N | Tradewater LLC | 173.306(a)(1) | To authorize the transportation in commerce of refrigerant gases as limited quantities when in receptacles exceeding 4 fluid ounces. (modes 1, 2, 3)

[FR Doc. 2020-04818 Filed 3-9-20; 8:45 am]

BILLING CODE 4909-60-P